NATIONAL AERONAUTICS AND SPACE ADMINISTRATION

[Notice (03-078)]

NASA Biological and Physical Research Advisory Committee, Space Station Utilization Advisory Subcommittee Meeting

AGENCY: National Aeronautics and Space Administration.

ACTION: Notice of meeting.

SUMMARY: The National Aeronautics and Space Administration announces a meeting of the NASA Biological and Physical Research Advisory Committee, Space Station Utilization Advisory Subcommittee (SSUAS).

DATES: Monday, July 28, 2003, 8 a.m. to 5 p.m., and Tuesday, July 29, 2003, 8 a.m. to 5 p.m., and July 30, 2003, 8 a.m. to 12 noon.

ADDRESS: Brook Lodge Hotel and Conference Center, 6535 N. 42nd Street, Augusta, MI 49012.

FOR FURTHER INFORMATION CONTACT: Dr. Neal Pellis, Code U, National Aeronautics and Space Administration, Houston, TX 77058, (281) 483-8388.

SUPPLEMENTARY INFORMATION: The meeting will be open to the public up to the seating capacity of the room. Advance notice of attendance to the Executive Secretary is requested.

The agenda for the meeting will include the following topics:

• ISS Program Status/Plans.

• Research Integrated Plans.

• OBPR Report.

• NASA Strategic Plan and the ISS.

• ISS Program Scientist Report.

• Payloads Office Report.

• Integrated Hardware availability on the ISS.

• Science Officer Report “ Expedition 6.

• Payload Training Schedule.

• Research and Operations Report on Increment 7.

• Telecon with Investigators.

• Rosaviakosmos Report.

• European Space Agency Report.

• NASDA/GOJ Report.

• CSA Report.

• IFSUSS Discussion.

• ISS Milestones to Support Space Architect's Plans.

• Re-invention and the Science Risk.

• ISS Research Institute and the ISS Research.

• CAM and its Contents.

• Attached Payloads Program.

• The IRB Process.

• Visiting Cargo Vehicles “ Progress.

• Executive Development of Recommendations.

• Executive SSUAS/IFSUSS and Code U Retreat.

• SSUAS/IFSUSS Recommendations to BPRAC.

It is imperative that the meeting be held on this date to accommodate the scheduling priorities of the key participants. Visitors will be requested to sign a visitor's register.

June W. Edwards,
Advisory Committee Management Officer, National Aeronautics and Space Administration.

[FR Doc. 03-16565 Filed 6-30-03; 8:45 am]

BILLING CODE 7510-01-P